DEPARTMENT OF LABOR

Employment and Training Administration

[TA-W-81,904]

American Showa, Inc.; Blanchester Plant, Including On-Site Leased Workers From Adecco and Sims Bros., Inc.; Blanchester, OH; Amended Certification Regarding Eligibility To Apply for Worker Adjustment Assistance

In accordance with Section 223 of the Trade Act of 1974, as amended (“Act”), 19 U.S.C. 2273, the Department of Labor issued a Certification of Eligibility to Apply for Worker Adjustment Assistance on October 23, 2012, applicable to workers and former workers of American Showa, Inc., Blanchester Plant, including on-site leased workers from Adecco, Blanchester, Ohio.

At the request of a State Workforce Agent, the Department reviewed the certification for workers of the subject firm.

The Department has received and confirmed information that workers from Sims Bros., Inc. were working on-site at the subject firm during the relevant period and that the services supplied by Sims Bros., Inc. were related to the production of gear boxes (and parts thereof) produced by the workers of the subject firm.

The amended notice applicable to TA-W-81,904 is hereby issued as follows:

All workers of American Showa, Inc., Blanchester Plant, including on-site leased workers from Adecco and Sims Bros., Inc., Blanchester, Ohio, who became totally or partially separated from employment on or after August 16, 2011 through October 23, 2014, and all workers in the group threatened with total or partial separation from employment on date of certification through two years from the date of certification, are eligible to apply for adjustment assistance under Chapter 2 of Title II of the Trade Act of 1974, as amended.

Signed in Washington, DC, this 11th day of January 2013.
Del Min Amy Chen,
Certifying Officer, Office of Trade Adjustment Assistance.

[FR Doc. 2013-02540 Filed 2-5-13; 8:45 am]

BILLING CODE 4510-FN-P